DEPARTMENT OF AGRICULTURE

Animal and Plant Health Inspection Service

[Docket No. APHIS-2014-0024]

Notice of Request for Extension of Approval of an Information Collection; National Animal Health Monitoring System; Emergency Epidemiologic Investigations

AGENCY: Animal and Plant Health Inspection Service, USDA.

ACTION: Extension of approval of an information collection; comment request.

SUMMARY: In accordance with the Paperwork Reduction Act of 1995, this notice announces the Animal and Plant Health Inspection Service's intention to request an extension of approval for Emergency Epidemiologic Investigations, an information collection to support the National Animal Health Monitoring System.

DATES: We will consider all comments that we receive on or before July 1, 2014.

ADDRESSES: You may submit comments by either of the following methods:

• Federal eRulemaking Portal: Go to http://www.regulations.gov/#!docketDetail;D=APHIS-2014-0024.

• Postal Mail/Commercial Delivery: Send your comment to Docket No. APHIS-2014-0024, Regulatory Analysis and Development, PPD, APHIS, Station 3A-03.8, 4700 River Road Unit 118, Riverdale, MD 20737-1238.

Supporting documents and any comments we receive on this docket may be viewed at http://www.regulations.gov/#!docketDetail;D=APHIS-2014-0024 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on Emergency Epidemiologic Investigations, contact Mr. Chris Quatrano, Industry Analyst, Centers for Epidemiology and Animal Health, VS, APHIS, 2150 Centre Avenue, Building B MS 2E7, Fort Collins, CO 80526; (970) 494-7207. For copies of more detailed information on the information collection, contact Mrs. Celeste Sickles, APHIS' Information Collection Coordinator, at (301) 851-2908.

SUPPLEMENTARY INFORMATION: Title: National Animal Health Monitoring System; Emergency Epidemiologic Investigations.

OMB Control Number: 0579-0376.

Type of Request: Extension of approval of an information collection.

Abstract: Under the Animal Health Protection Act (7 U.S.C. 8301 et seq.), the Animal and Plant Health Inspection Service (APHIS) of the U.S. Department of Agriculture is authorized, among other things, to protect the health of U.S. livestock and poultry populations by preventing the introduction and interstate spread of serious diseases and pests of livestock and by eradicating such diseases from the United States when feasible. In connection with this mission, APHIS operates the National Animal Health Monitoring System (NAHMS), which collects nationally representative, statistically valid, and scientifically sound data on the prevalence and economic importance of livestock diseases and associated risk factors.

APHIS NAHMS officials are often asked by State and local animal health officials to carry out epidemiological investigations as diseases impact animal health populations. Emergency Epidemiological Investigations will be used to collect information on:

• Outbreaks of animal diseases with unknown etiology and transmission, that are highly contagious, and that have high case fatality.

• Outbreaks of known animal diseases that are highly contagious, virulent, and have unknown source of infection or mode of transmission.

• Outbreaks of emerging, zoonotic, or foreign animal diseases within the United States.

• Outbreaks in which a delay in data collection could result in the loss of epidemiologic information essential to assist laboratory investigations and/or disease control efforts.

These investigations will normally consist of an on-farm questionnaire administered by APHIS-designated data collectors. The information collected through Emergency Epidemiologic Investigations will be analyzed and used to:

• Identify the scope of the problem.

• Define and describe the affected population and susceptible population.

• Predict or detect trends in disease emergence and movement.

• Understand the risk factors for disease.

• Estimate the cost of disease control and develop intervention options.

• Make recommendations for disease control.

• Provide parameters for animal disease spread models.

• Provide lessons learned and guidance on the best ways to avoid future outbreaks based on thorough analysis of data from current outbreak(s).

• Identify areas for further research, e.g. mechanisms of disease transfer, vaccine technology, and diagnostic testing needs.

We are asking the Office of Management and Budget (OMB) to approve our use of this information collection activity for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies, such as electronic submission of responses.

Estimate of burden: The public reporting burden for this collection of information is estimated to average 0.725 hours per response.

Respondents: Livestock owners and State and local animal health officials.

Estimated annual number of respondents: 4,000.

Estimated annual number of responses per respondent: 1.

Estimated annual number of responses: 3,999.

Estimated total annual burden on respondents: 2,901 hours. (Due to averaging, the total annual burden hours may not equal the product of the annual number of responses multiplied by the reporting burden per response.)

All responses to this notice will be summarized and included in the request for OMB approval. All comments will also become a matter of public record.

Done in Washington, DC, this 28th day of April 2014.
Kevin Shea,
Administrator, Animal and Plant Health Inspection Service.

[FR Doc. 2014-10028 Filed 5-1-14; 8:45 am]

BILLING CODE 3410-34-P